DEPARTMENT OF THE INTERIOR

National Park Service

[NPS-NCR-NACA-14983; PPNCNCROL0, PPMPSPD1Y.M000]

Notice of Intent To Prepare an Environmental Impact Statement for the Potomac River Tunnel in the National Capital Region

AGENCY: National Park Service, Interior.

ACTION: Notice of Intent.

SUMMARY: Pursuant to Section 102 (2)(C) of the National Environmental Policy Act of 1969, 42 U.S.C. 4332(2)(C), the National Park Service) and DC Water as co-lead agencies are preparing an Environmental Impact Statement for the Potomac River Tunnel in the National Capital Region. The area affected is within the Chesapeake and Ohio Canal National Historical Park, Rock Creek Park, and National Mall and Memorial Parks in Washington, DC. The purpose of this EIS is to analyze the impacts of constructing a tunnel and supporting infrastructure for capture, conveyance, and storage of combined sewer overflows when the combined sewer system capacity is exceeded.

DATES: The NPS will accept comments from the public through September 2, 2014. The NPS intends to hold a public scoping meeting during the scoping period. Details regarding the exact times and locations of these meetings will be announced through local media at least 15 days before the meetings. Information about public meetings will also be provided on the three parks' planning Web site: http://parkplanning.nps.gov/NCRO (click on the link to the Potomac River Tunnel EIS).

ADDRESSES: Information will be available for public review and comment online at http://parkplanning.nps.gov/NCRO and at all three park headquarters listed below.

Office of the Superintendent, Chesapeake and Ohio Canal National Historical Park, 1850 Dual Highway, Suite 100, Hagerstown, Maryland 21740, Telephone: (301) 714-2201.

Office of the Superintendent, Rock Creek Park, 3545 Williamsburg Lane NW., Washington, DC 20008, Telephone: (202) 895-6004.

Office of the Superintendent, National Mall and Memorial Parks, 900 Ohio Drive SW., Washington, DC 20024, Telephone: (202) 485-9880.

FOR FURTHER INFORMATION CONTACT: Moussa Wone, DC Clean Rivers Project, (202) 787-4729 or Joel Gorder, National Park Service Regional Environmental Coordinator, (202) 619-7405.

SUPPLEMENTARY INFORMATION: This planning effort is needed because combined sewer overflows (CSOs) cause or contribute to water quality degradation in the receiving waters of the Potomac River. In addition, the project is required by a Federal Consent Decree entered into by DC Water, the United States Environmental Protection Agency, the United States Department of Justice and the District of Columbia. The Federal Consent Decree identifies a completion milestone of 2025 for a series of projects designed to reduce discharges of CSOs into the Anacostia River, Potomac River, and Rock Creek. For the Potomac River Tunnel project, the Federal Consent Decree requires an underground storage tunnel be constructed to provide 58 million gallons of CSO storage and a dewatering pump station sufficiently sized to dewater the tunnel within 59 hours.

While DC Water is the agency tasked with the construction and operation of the Potomac River Tunnel, the majority of the associated infrastructure is to be built on or below NPS administered properties, including Rock Creek Park; Chesapeake and Ohio Canal National Historical Park; the National Mall and Memorial Parks; and the bed of the Potomac River.

A scoping newsletter will be prepared that details the issues identified to date and include the purpose, need, and objectives of the Environmental Impact Statement. Copies of that information may be obtained online at http://parkplanning.nps.gov/NCRO or at one of the three parks' headquarters addresses above.

If you wish to comment on the purpose, need, objectives, alternatives, or on any other issues associated with the EIS, you may submit your comments via the Internet at http://parkplanning.nps.gov/NRCO (preferred method) or by mail or hand-delivery to any of the addresses listed above.

Before including your address, phone number, email address, or other personal identifying information in your comment, you should be aware that your entire comment—including your personal identifying information—may be made publicly available at any time. While you can ask us in your comment to withhold your personal identifying information from public review, we cannot guarantee that we will be able to do so.

Dated: May 20, 2014.
Stephen E. Whitesell,
Regional Director, National Park Service, National Capital Region.

[FR Doc. 2014-15542 Filed 7-1-14; 8:45 am]

BILLING CODE 4310-DL-P